DEPARTMENT OF HEALTH AND HUMAN SERVICES

Centers for Disease Control and Prevention

Enhancing Cancer Prevention and Control Programs for American Indian/Alaska Native Women

Announcement Type: New.

Funding Opportunity Number: PA 04144.

Catalog of Federal Domestic Assistance Number: 93.283.

Key Dates:

Letter of Intent Deadline: April 20, 2004.

Application Deadline: May 14, 2004.

I. Funding Opportunity Description Authority

This program is authorized under sections 301(a), 317(k)(2) of the Public Health Service Act [42 U.S.C. 241(a) and 247b(k)(2)], as amended.

Purpose: The purpose of the program is to enhance the capacity of tribal and state National Breast and Cervical Cancer Early Detection Program (NBCCEDP) and/or National Comprehensive Cancer Control Program (CCC) grantees to serve the largest possible number of eligible American Indian/Alaska Native (AI/AN) women. The successful applicant should be able to identify culturally appropriate approaches and implementation strategies to address the national scope of this program announcement. This program addresses the “Healthy People 2010” focus area of cancer.

Measurable outcomes of the program will be in alignment with one (or more) of the following performance goal(s) for the National Center for Chronic Disease Prevention and Health Promotion (NCCDPHP): (1) Increase early detection of breast and cervical cancer by building nationwide programs in breast and cervical cancer prevention especially among high risk, underserved women; (2) Expand community-based breast and cervical cancer screening and diagnostic services to low income, medically underserved women; (3) Assure access to treatment services for women diagnosed with cancer or pre-cancer.

Activities

Awardee activities related to this program are as follows:

• Identify culturally appropriate approaches that tribal NBCCEDP grantees can use to increase screening to underserved rarely, or never screened, AI/AN women through the following means:

—Identify approaches and implementation strategies that tribal Program Directors can use to increase culturally appropriate health care delivery and cultural sensitivity for all cooperative agreement grantees through annual trainings, workshops, and conferences.

—Identify approaches and implementation strategies for tribal Program Directors to integrate Cancer Programs into the tribal health care system.

—Provide culturally appropriate management and leadership skills training to tribal program staff.

—Identify and implement national communication strategies among tribal grantees.

—Identify effective culturally appropriate mentoring strategies that can be used by tribal grantees to improve program performance.

—Identify and disseminate effective intervention strategies to other Breast and Cervical tribal grantees.

—In collaboration with CDC staff, participate in a bi-annual training, as needed, on Tribal Outreach Strategies.

—Identify program implementation strategies that can be used by tribal CCC grantees to develop coalitions to strengthen their comprehensive control plans.

• Identify approaches and implementation strategies for state NBCCEDP grantees to increase screening to underserved, rarely or never screened AI/AN women through the following means:

—Assist state Program Directors to develop effective and appropriate partnerships with tribes.

—Identify opportunities to conduct combined meetings with states and tribes/tribal organizations within those states to develop realistic and culturally sensitive approaches for screening women.

—Identify opportunities to develop partnerships between Urban Indian Health Clinics and state Breast and Cervical Cancer Early Detection Programs in collaboration with CDC staff.

—Disseminate information and best practices through annual meetings, workshops and appropriate venues for all cooperative agreement grantees.

—Identify training opportunities for states to develop outreach strategies to reach AI/AN women for breast and cervical cancer screening.

—Identify strategies to engage AI/AN people in the development of state coalitions CCC plans.

In a cooperative agreement, CDC staff is substantially involved in the program activities, above and beyond routine grant monitoring.

CDC Activities for this program are as follows:

• Assist in developing and planning annual trainings, workshops, and conferences designed to disseminate information and increase culturally appropriate health care delivery and cultural sensitivity for all cooperative agreement grantees.

• Assist in the development of and review all cancer training materials to ensure that the materials are based on AI/AN learning styles and are science based.

• Assist in identifying and setting priorities for Leadership Training curriculum for tribal grantees.

• Develop strategies and methods to assist the grantee in evaluating the impact of the grantee's activities.

• Assist in annual dissemination of information through annual workshops, meetings, and other appropriate venues designed to increase culturally appropriate health care delivery and cultural sensitivity for all cooperative agreement grantees.

II. Award Information

Type of Award: Cooperative Agreement.

CDC involvement in this program is listed in the Activities Section above.

Fiscal Year Funds: 2004.

Approximate Total Funding: $400,000.

Approximate Number of Awards: 1.

Approximate Average Award: $400,000 (This amount is for the first 12-month budget period, and includes both direct and indirect costs).

Floor of Award Range: None.

Ceiling of Award Range: $400,000.

Anticipated Award Date: September 30, 2004.

Budget Period Length: 12 months.

Project Period Length: 3 years.

Throughout the project period, CDC's commitment to continuation of awards will be conditioned on the availability of funds, evidence of satisfactory progress by the recipient (as documented in required reports), and the determination that continued funding is in the best interest of the Federal Government.

III. Eligibility Information

III.1. Eligible applicants

Applications may be submitted by public and private nonprofit organizations, such as:

• Public nonprofit organizations

• Private nonprofit organizations

• Faith-based organizations

III.2. Cost Sharing or Matching

Matching funds are not required for this program.

III.3. Other

CDC will accept and review applications with budgets greater than the ceiling of the award range.

If your application is incomplete or non-responsive to the requirements listed in this section, it will not be entered into the review process. You will be notified that your application did not meet submission requirements.

Applicants should have extensive experience assisting AI/AN tribes, tribal organizations, health departments and populations with the management of women health care programs, including breast and cervical cancer early detection program activities. Therefore, eligible organizations should:

• Have staff in key positions with 5 or more years of relevant experience.

• Provide proof of nonprofit status; see AR-15 for additional detail.

• Demonstrate extensive experience with unique health service delivery issues for American Indian/Alaska Native women, and experience in working with IHS, tribes, tribal organizations, and state staff to identify effective strategies to deliver culturally competent breast and cervical cancer screening services to this population.

• Demonstrate success in providing technical assistance to states to increase their cancer screening of AI/AN women.

Note: Title 2 of the United States Code section 1611 states that an organization described in section 501(c)(4) of the Internal Revenue Code (Title 26) that engages in lobbying activities is not eligible to receive Federal funds constituting an award, grant, or loan.

IV. Application and Submission Information

IV.1. Address To Request Application Package

To apply for this funding opportunity use application form PHS 5161. Application forms and instructions are available on the CDC Web site, at the following Internet address: www.cdc.gov/od/pgo/forminfo.htm.

If you do not have access to the Internet, or if you have difficulty accessing the forms on-line, you may contact the CDC Procurement and Grants Office Technical Information Management Section (PGO-TIM) staff at: (770) 488-2700. Application forms can be mailed to you.

IV.2. Content and Form of Submission

Letter of Intent (LOI): Your LOI must be written in the following format:

• Maximum number of pages: 2.

• Font size: 12-point unreduced

• Single spaced

• Paper size: 8.5 by 11 inches

• Page margin size: One inch

• Printed only on one side of page

• Written in plain language, avoid jargon

Your LOI must contain the following information:

• Name of organization

• Contact information

Application: You must submit a project narrative with your application forms. The narrative must be submitted in the following format:

• Maximum number of pages: 20. If your narrative exceeds the page limit, only the first pages which are within the page limit will be reviewed.

• Double spaced

• Font size: 12 point unreduced

• Paper size: 8.5 by 11 inches

• Page margin size: One inch

• Printed only on one side of page

• Held together only by rubber bands or metal clips; not bound in any other way.

Your narrative should address activities to be conducted over the entire project period, and must include the following items in the order listed:

1. Executive Summary

The applicant should provide a clear, concise 1-2 page written summary to include:

• Rationale for this approach to technical assistance versus another approach.

• Priority areas for technical assistance.

• Activities and the experience of the staff to provide culturally sensitive training and technical assistance.

• Identification of the major activities proposed to develop or implement a technical assistance/ training program.

• Requested amount of Federal funding.

• Applicant's capability to conduct the activities.

2. Background

The applicant should describe:

• The unique technical assistance needs of urban/rural population needing screening.

• The unique technical assistance needs of States with large breast and cervical cancer unscreened populations.

• Relevant experiences in development and implementation of tribal/state health department screening programs.

• Relevant experiences in coordination and collaboration between and among existing programs.

• Existing initiatives, capacity, and infrastructure within which AI/AN screening will occur.

3. Management Plan

• Submit a management plan that includes a description of proposed management structure, organizational chart, internal and external communication systems and a system for sound fiscal management.

• Provide a description of the proposed or existing linkages with IHS, state health departments and national AI/AN organizations.

• Provide (in the appendices) curriculum vitae and job descriptions of all staff funded through this announcement.

• Provide a detailed work plan that describes how the activities will be carried out. It should include the following:

—Goals and objectives for Year 01

—Activities planned to achieve objectives

—Data that will be used to assess program activities

—Time line for assessing progress

—The person or persons responsible for activities and overall measures of effectiveness. These measures must be objective/quantitative and must measure the intended outcome.

4. Itemized Budget and Justification

• A detailed budget with supporting justification must be provided and should be related to objectives that are stated in the applicant's work plan.

Additional information may be included in the application appendices. The appendices will not be counted toward the narrative page limit. This additional information includes:

• Organizational Charts

• Letters of Support

You are required to have a Dun and Bradstreet Data Universal Numbering System (DUNS) number to apply for a grant or cooperative agreement from the Federal Government. The DUNS number is a nine-digit identification number, which uniquely identifies business entities. Obtaining a DUNS number is easy and there is no charge. To obtain a DUNS number, access www.dunandbradstreet.com or call 1 (866) 705-5711.

For more information, see the CDC Web site at: http://www.cdc.gov/od/pgo/funding/pubcommt.htm.

If your application form does not have a DUNS number field, please write your DUNS number at the top of the first page of your application, and/or include your DUNS number in your application cover letter.

Additional requirements that may require you to submit additional documentation with your application are listed in section “VI.2. Administrative and National Policy Requirements.”

IV.3. Submission Dates and Times

LOI Deadline Date: April 20, 2004.

CDC requests that you send a LOI if you intend to apply for this program. Although the LOI is not required, not binding, and does not enter into the review of your subsequent application, the LOI will be used to gauge the level of interest in this program, and to allow CDC to plan the application review.

Application Deadline Date: May 14, 2004.

Explanation of Deadlines: Applications must be received in the CDC Procurement and Grants Office by 4 p.m. Eastern Time on the deadline date. If you send your application by the United States Postal Service or commercial delivery service, you must ensure that the carrier will be able to guarantee delivery of the application by the closing date and time. If CDC receives your application after closing due to: (1) Carrier error, when the carrier accepted the package with a guarantee for delivery by the closing date and time, or (2) significant weather delays or natural disasters, you will be given the opportunity to submit documentation of the carriers guarantee. If the documentation verifies a carrier problem, CDC will consider the application as having been received by the deadline.

This announcement is the definitive guide on application submission address and deadline. It supersedes information provided in the application instructions. If your application does not meet the deadline above, it will not be eligible for review, and will be discarded. You will be notified that your application did not meet the submission requirements.

CDC will not notify you upon receipt of your application. If you have a question about the receipt of your application, first contact your courier. If you still have a question, contact the PGO-TIM staff at: (770) 488-2700. Before calling, please wait two to three days after the application deadline. This will allow time for applications to be processed and logged.

IV.4. Intergovernmental Review of Applications

Executive Order 12372 does not apply to this program.

IV.5. Funding Restrictions

Restrictions, which must be taken into account while writing your budget, are as follows:

• Awards will not allow reimbursement of pre-award costs.

If you are requesting indirect costs in your budget, you must include a copy of your indirect cost rate agreement. If your indirect cost rate is a provisional rate, the agreement should be less than 12 months of age.

Guidance for completing your budget can be found on the CDC Web site, at the following Internet address: http://www.cdc.gov/od/pgo/funding/budgetguide.htm.

IV.6. Other Submission Requirements

LOI Submission Address: Submit your LOI by express mail, delivery service, fax, or E-mail to:

Annie Voigt, Program Consultant, Centers for Disease Control and Prevention, National Center for Chronic Disease Prevention and Health Promotion, Division of Cancer Prevention and Control, Program Services Branch.

For mail service:

4770 Buford Highway, NE., Mailstop K-57, Atlanta, GA 30341-3724.

For delivery service:

2858 Woodcock Blvd, Davidson Building, Room 2059, Chamblee, GA 30341, telephone (770) 488-4707, fax (770) 488-3230, e-mail: anv1@cdc.gov.

Application Submission Address: Submit the original and two hard copies of your application by mail or express delivery service to:

Technical Information Management—PA# 04144, CDC Procurement and Grants Office, 2920 Brandywine Road, Atlanta, GA 30341.

Applications may not be submitted electronically at this time.

V. Application Review Information

V.1. Criteria

You are required to provide measures of effectiveness that will demonstrate the accomplishment of the various identified objectives of the cooperative agreement. Measures of effectiveness must relate to the performance goals stated in the “Purpose” section of this announcement. Measures must be objective and quantitative, and must measure the intended outcome. These measures of effectiveness must be submitted with the application and will be an element of evaluation.

Your application will be evaluated against the following criteria:

1. Work Plan (40 Points)

Is the plan adequate to carry out the proposed activities, including how the applicant plans to work collaboratively with other organizations and individuals who may have an impact on breast and cervical cancer prevention and control objectives? Are the goal(s) clear, objectives specific, measurable, achievable, realistic and time-phased? Are the activities clear and specific?

2. Management Plan (30 Points)

Does the organization have the organizational capacity and program management skills and experience to develop and manage the program? Are proposed staff qualified and do they possess capacity to perform the technical assistance described? Does staff have expertise working with AI/AN populations in the management of women's health care programs, including breast and cervical cancer early detection program activities?

3. Evaluation Plan (20 Points)

Will the evaluation plan monitor both the progress toward meeting project objectives and their impact?

4. Background (10 Points)

Does the application identify the: (1) Limitations of access in both urban and rural populations, (2) need for culturally appropriate technical assistance and training for tribal grantees, and (3) difficulty for states to reach AI/AN women for cancer screening and to find AI/AN women to serve on coalitions and planning committees?

5. Budget

Is each line-item budget and narrative justification reasonable and consistent with the purpose and objectives of the program? (Not weighted)

V.2. Review and Selection Process

Applications will be reviewed for completeness by the Procurement and Grants Office (PGO) staff, and for responsiveness by NCCDPHP. Incomplete applications and applications that are non-responsive to the eligibility criteria will not advance through the review process. Applicants will be notified that their application did not meet submission requirements.

An objective review panel will evaluate complete and responsive applications according to the criteria listed in the “V.1. Criteria” section above.

In addition, the following factors may affect funding the funding decision:

Demonstrated success in securing AI/AN staff, (including consultants) who are from, or have worked in and are familiar with, each of the 12 Indian Health Service Areas and who have served key roles in the health care systems and activities of tribal health departments, Indian Health Boards, Inter-tribal Councils and/or Indian Health Service.

V.3. Anticipated Announcement and Award Dates

September 30, 2004.

VI. Award Administration Information

VI.1. Award Notices

Successful applicants will receive a Notice of Grant Award (NGA) from the CDC Procurement and Grants Office. The NGA shall be the only binding, authorizing document between the recipient and CDC. The NGA will be signed by an authorized Grants Management Officer, and mailed to the recipient fiscal officer identified in the application. Unsuccessful applicants will receive notification of the results of the application review by mail.

VI.2. Administrative and National Policy Requirements

45 CFR Part 74 and Part 92

For more information on the Code of Federal Regulations, see the National Archives and Records Administration at the following Internet address: http://www.access.gpo.gov/nara/cfr/cfr-table-search.html.

The following additional requirements may apply to this project:

• AR-8 Public Health System Reporting Requirements

• AR-9 Paperwork Reduction Act Requirements

• AR-10 Smoke-Free Workplace Requirements

• AR-11 Healthy People 2010

• AR-12 Lobbying Restrictions

• AR-14 Accounting System Requirements

• AR-15 Proof of Non-Profit Status

Additional information on these requirements can be found on the CDC Web site at the following Internet address: http://www.cdc.gov/od/pgo/funding/ARs.htm.

VI.3. Reporting Requirements

You must provide CDC with an original, plus two hard copies of the following reports:

1. Interim progress report, no less than 90 days before the end of the budget period. The progress report will serve as your non-competing continuation application, and must contain the following elements:

a. Current Budget Period Activities Objectives.

b. Current Budget Period Financial Progress.

c. New Budget Period Program Proposed Activity Objectives.

d. Budget.

e. Additional Requested Information.

f. Measures of Effectiveness.

2. Financial status report and annual progress report, no more than 90 days after the end of the budget period.

3. Final financial and performance reports, no more than 90 days after the end of the project period.

These reports must be mailed to the Grants Management or Contract Specialist listed in the “Agency Contacts” section of this announcement.

VII. Agency Contacts

For general questions about this announcement, contact:

Technical Information Management Section, CDC Procurement and Grants Office, 2920 Brandywine Road, Atlanta, GA 30341, Telephone: (770) 488-2700.

For program technical assistance, contact:

Annie Voigt, Program Consultant, Centers for Disease Control and Prevention, National Center for Chronic Disease Prevention and Health Promotion, Division of Cancer Prevention and Control, Program Services Branch.

For mail service:

4770 Buford Highway, NE., Mailstop K-57, Atlanta, GA 30341-3724, Telephone: (770) 488-4707, Fax: (770) 488-3230, E-mail: anv1@cdc.gov.

For financial, grants management, or budget assistance, contact:

Glynnis Taylor, Grants Management Specialist, CDC Procurement and Grants Office, 2920 Brandywine Road, Atlanta, GA 30341, Telephone: 770-488-2752, E-mail: gld1@cdc.gov.

Dated: March 24, 2004.
Edward Schultz,
Acting Director, Procurement and Grants Office, Centers for Disease Control and Prevention.

[FR Doc. 04-7026 Filed 3-29-04; 8:45 am]

BILLING CODE 4163-18-P